DEPARTMENT OF LABOR

Employment and Training Administration

[TA-W-71,426]

Lordstown Seating Systems, a Subsidiary of Magna Seating, Including Workers Whose Unemployment Insurance (UI) Wages Are Reported Through Intier Automotive Seatings of America, Lordstown, OH; Amended Certification Regarding Eligibility To Apply for Worker Adjustment Assistance

In accordance with Section 223 of the Trade Act of 1974, as amended (“Act”), 19 U.S.C. 2273, the Department of Labor issued a Certification of Eligibility To Apply for Worker Adjustment Assistance on April 8, 2010, applicable to workers of Lordstown Seating Systems, a subsidiary of Magna Seating, Lordstown, Ohio. The notice was published in the Federal Register on May 5, 2010 (75 FR 24751).

At the request of the state, the Department reviewed the certification for workers of the subject firm. The workers produce seating for automobiles.

New information shows that some workers separated from employment at the subject firm had their wages reported under a separated unemployment insurance (UI) tax account under the name “Intier Automotive Seatings of America, Inc.”

Accordingly, the Department is amending this certification to properly reflect this matter.

The intent of the Department's certification is to include all workers of the subject firm who were secondarily affected as a supplier of seating for automobiles to a TAA certified firm.

The amended notice applicable to TA-W-71,426 is hereby issued as follows:

“All workers of Lordstown Seating Systems, a subsidiary of Magna Seating, including workers whose unemployment insurance (UI) wages are reported through Intier Automotive Seatings of America, Inc., Lordstown, Ohio, who became totally or partially separated from who became totally or partially separated from employment on or after June 25, 2008 through April 8, 2012, and all workers in the group threatened with total or partial separation from employment on date of certification through two years from the date of certification, are eligible to apply for adjustment assistance under Chapter 2 of Title II of the Trade Act of 1974, as amended.”

Signed at Washington, DC this 3rd day of June, 2010.
Michael W. Jaffe,
Certifying Officer, Division of Trade Adjustment Assistance.

[FR Doc. 2010-14460 Filed 6-15-10; 8:45 am]

BILLING CODE 4510-FN-P